DEPARTMENT OF TRANSPORTATION

Surface Transportation Board

[Docket No. FD 35548]

Canadian Pacific Railway Company—Trackage Rights Exemption—CSX Transportation, Inc.

Pursuant to a written trackage rights agreement,¹ CSX Transportation, Inc. (CSXT) has agreed to grant overhead trackage rights to Canadian Pacific Railway Company (CP) between milepost CH 5.0±, in the vicinity of Fort Street at a connection between CSXT and Consolidated Rail Corporation's (CRC) Foreman Wye, and milepost CH 7.5±, at or near Michigan Avenue on CSXT's Detroit Subdivision, a distance of approximately 2.5 miles in Wayne County, Mich. (the Line).²

¹ A redacted version of the trackage rights agreement between CSXT and CP was filed with the notice of exemption. The unredacted version, as required by 49 CFR 1180.6(a)(7)(ii), was concurrently filed under seal along with a motion for protective order. The motion is being addressed in a separate decision.

² This transaction is related to a concurrently filed verified notice of exemption in FD 35549, Canadian Pacific Railway Company—Trackage Rights Exemption—Consolidated Rail Corporation, in which CP seeks to obtain overhead trackage rights over CRC's Foreman Wye, between Norfolk Southern Railway Company milepost 5.2± and CSXT milepost CH 5.0±, a total distance of approximately 1,980 feet, in Wayne County, Mich.

The earliest this transaction may be consummated is October 1, 2011, the effective date of the exemption (30 days after the exemption was filed).

According to CP, the purpose of the transaction is to increase the operating efficiency of CP and CSXT in Detroit, Michigan and allow for a more efficient routing of CP's trains into CP's intermodal facility at Oak Yard in Detroit. CP and CSXT wish to cancel a switching support agreement under which CSXT handles CP's Port of Vancouver intermodal freight (POV freight) moving via Norfolk Southern Railway Company's Oakwood Yard to CP's intermodal facility. To handle the POV freight from Oakwood Yard to its intermodal facility at Oak Yard in its own trains following termination of the switching support agreement, CP asserts that it will need to acquire trackage rights over the Line to connect with its previously granted trackage rights over CSXT's Detroit Subdivision between milepost CH 7.5± and milepost CH 13.5± at Oak Yard.

As a condition to this exemption, any employees affected by the trackage rights will be protected by the conditions imposed in Norfolk & Western Railway Co.—Trackage Rights—Burlington Northern, Inc., 354 I.C.C. 605 (1978), as modified in Mendocino Coast Railway, Inc.—Lease and Operate—California Western Railroad, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Stay petitions must be filed by September 23, 2011 (at least 7 days before the exemption becomes effective).

An original and 10 copies of all pleadings, referring to Docket No. FD 35548, must be filed with the Surface Transportation Board, 395 E Street, SW., Washington, DC 20423-0001. In addition, a copy of each pleading must be served on W. Karl Hansen, Leonard, Street and Deinard, Professional Association, 150 South Fifth Street, Suite 2300, Minneapolis, MN 55402 (Counsel for CP).

Board decisions and notices are available on our Web site at http://www.stb.dot.gov.

Decided: September 13, 2011.
By the Board.
Rachel D. Campbell,
Director, Office of Proceedings.
Jeffrey Herzig,
Clearance Clerk.

[FR Doc. 2011-23811 Filed 9-15-11; 8:45 am]

BILLING CODE 4915-01-P